DEPARTMENT OF AGRICULTURE

Forest Service

Power Fire Restoration; Eldorado National Forest, Amador County, CA

AGENCY: Forest Service, USDA.

ACTION: Notice of intent to prepare an environmental impact statement.

SUMMARY: In October of 2004, the Power Fire burned approximately 16,993 acres on the Eldorado National Forest and on private timberlands. The project area for this analysis is the approximately 13,611 acre portion of the Power Fire on National Forest lands within the Amador Ranger District administrative boundary. The USDA, Forest Service, Eldorado National Forest will prepare an environmental impact statement (EIS) on a proposal to treat approximately 7,914 acres of fire killed and damaged trees in the Power Fire burned area. The land allocations within the fire area identified in the Sierra Nevada Forest Plan Supplemental EIS are old forest emphasis, threat zone, defense zone, protected activity centers (PACs) for spotted owls and goshawks, spotted owl home range core areas (HRCAs), and riparian conservation areas (RCAs) adjacent to perennial, seasonal and ephemeral streams. A portion of the Mokelumne Wilderness and the Salt Springs State Game Refuge is also within the fire area. The Mokelumne River, Bear River, Beaver Creek, Cole Creek and Green Creek, having outstandingly remarkable cultural resource values, are eligible for possible inclusion in the National Wild and Scenic River system.

The purpose of the project is to reduce long term fuel loading for the purpose of reducing future fire severity and resistance to control, improve roads and establish effective ground cover in severely burned areas for the purpose of reducing erosion and sedimentation to streams in the short term and contributing to long term soil productivity, recover the volume and value of timber killed or severely injured by the fire for the purpose of generating funds to offset the cost of future restoration activities and supplying wood fiber to local sawmills, and reduce safety hazards to the public and forest workers.

DATES: Comments concerning the scope and implementation of this proposal should be received by January 7, 2005.

ADDRESSES: Send written comments to Patricia Ferrell, Project Leader, Eldorado National Forest, 100 Forni Road, Placerville, CA 95667.

FOR FURTHER INFORMATION CONTACT: Questions and comments about this EIS should be directed to Patricia Ferrell, at the above address, or call her at 530-642-5146.

SUPPLEMENTARY INFORMATION: The fire burned with varying intensity. Many areas of the fire burned at high and moderate intensity, killing 75%-100% of the trees and burning the duff and litter that protects the soil. In these areas, the fire resulted in high rates of soil erosion, sedimentation to streams, destruction of wildlife habitat for sensitive species, and loss of old forest. The fire killed ten of thousands of trees that if left untreated will contribute to extremely high fuel loading over time. As these dead trees fall and fuel accumulates, future fires will be even more severe. Treating the dead and dying tree component of the landscape is the first step in reducing long term fuel loading and restoring the historic fire regime, thereby reducing the impacts of fires on the future forest and contributing to the restoration of old forest habitats. Without treatment to begin to restore the fire area, significant additional impacts to soil, water quality, cultural resources, and wildlife habitat are likely over the short and long term. This Environmental Impact Statement (EIS) addresses treating the dead and dying tree component of the landscape and improving roads to reduce sediment delivery to streams. The process of removing dead trees would reduce soil erosion by immediately increasing effective ground cover (limbs, twigs, and small holes) and maintain soil productivity for tree growth. The proposed action would remove dead trees using ground based, skyline, and helicopter logging methods. Trees posing a safety hazard to the public and forest workers would be removed along maintenance level 3, 4, and 5 roads. Roads would be reconstructed and improved to facilitate tree removal and improve watershed condition. Slash and small dead trees would be treated to provide ground cover and reduce short term fuel loading. Protection would be applied to sensitive plants, wildlife species, and cultural resources.

The proposed action is consistent with the 1989 Eldorado National Forest Land and Resource Management Plan as amended by the Sierra Nevada Forest Plan Amendment Record of Decision (2004).

The decision to be made is whether to adopt and implement the proposed action, an alternative to the proposed action, or take no action to remove fire killed and damaged trees in the project area and undertake road improvements and fuel treatments.

Other alternatives will be developed based on significant issues identified during the scoping process for the environmental impact statement. All alternatives will need to respond to the specific condition of providing benefits equal to or better than the current condition. Alternatives being considered at this time include: (1) no Action and (2) the Proposed Action.

Public participation will be especially important at several points during the analysis. The Forest Service will be seeking information, comments, and assistance from the Federal, State, and local agencies and other individuals or organizations who may be interested in or affected by the proposed action. To facilitate public participation information about the proposed action will be mailed to all who express interest in the proposed action and notification of the public scoping period will be published in the Mountain Democrat, Placerville, CA.

Comments submitted during the scoping process should be in writing and should be specific to the proposed action. The comments should describe as clearly and completely as possible any issues the commenter has with the proposal. The scoping process includes:

(a) Identifying potential issues;

(b) Identifying issues to be analyzed in depth.

(c) Eliminating nonsignificant issues or those previously covered by a relevant previous environmental analysis;

(d) Exploring additional alternatives;

(e) Identifying potential environmental effects of the proposed action and alternatives.

The draft EIS is expected to be filed with the Environmental Protection Agency (EPA) and to be available for public review by March 2005. EPA will publish a notice of availability of the draft EIS in the Federal Register. The comment period on the draft EIS will be 45 days from the date the EPA notice appears in the Federal Register. At that time, copies of the draft EIS will be distributed to interested and affected agencies, organizations, and members of the public for their review and comment. It is very important that those interested in the management of the Eldorado National Forest participate at that time.

The Forest Service believes it is important to give reviewers notice at this early stage of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage, but that are not raised until after completion of the final EIS may be waived or dismissed by the courts. City of Angoon v. Hodel, 803f. 2d 1016, 1022 (9th Cir, 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. (Reviewers may wish to refer to the Council on Environmental Quality Regulations for implementing the procedural provisions of the National Environmental Policy Act at 40 CFR 1503.3 in addressing these points).

The final EIS is scheduled to be completed in June 2005. In the final EIS, The Forest Service is required to respond to substantive comments received during the comment period that pertain to the environmental consequences discussed in the draft EIS and applicable laws, regulations, and policies considered in making the decision regarding this proposal.

John D. Berry, Forest Supervisor, Eldorado National Forest is the responsible official. As the responsible official he will document the decision and reasons for the decision in the Record of Decision. That decision will be subject to Forest Service appeal regulations (36 CFR part 215).

Dated: December 15, 2004.
John D. Berry,
Forest Supervisor.

[FR Doc. 04-27952 Filed 12-21-04; 8:45 am]

BILLING CODE 3410-11-M